OFFICE OF MANAGEMENT AND BUDGET

Uniform Administrative Requirements, Cost Principles, and Audit Requirements

AGENCY: Executive Office of the President, Office of Management and Budget.

ACTION: Notice of availability.

SUMMARY: This Notice announces the availability of the 2019 OMB Compliance Supplement (2019 Supplement). This Notice also offers interested parties an opportunity to comment on the 2019 Supplement. The 2019 Supplement adds 12 new programs, deleted 3 expired programs and provides updated on many other programs, where necessary. It reduces the compliance areas for auditor review in Part 2 Matrix from a maximum of twelve to six. It adds guidance in Part 3.I, Procurement and Suspension and Debarment and Appendix VII of the Supplement.

DATES: The 2019 Supplement replaces the 2017 and 2018 Supplements and applies to audits of fiscal years beginning after June 30, 2018.

ADDRESSES: All comments on the 2019 Supplement must be in writing and received by July 30, 2019. Late comments will be considered to the extent practicable. Comments will be reviewed and addressed, when appropriate, in the 2020 Compliance Supplement.

Electronic mail comments may be submitted to: Hai_M._Tran@omb.eop.gov. Please include “2 CFR part 200 Subpart F—Audit Requirements, Appendix XI—Compliance Supplement—2019” in the subject line and the full body of your comments in the text of the electronic message and as an attachment. Please include your name, title, organization, postal address, telephone number, and e-mail address in the text of the message. Comments may also be sent through http://www.regulations.gov.

The 2019 Supplement is available online on the OMB home page at https://www.whitehouse.gov/omb/offices/offm

FOR FURTHER INFORMATION CONTACT: Recipients and auditors should contact their cognizant or oversight agency for audit, or Federal awarding agency, as appropriate under the circumstances. The Federal agency contacts are listed in Appendix III of the Supplement. Subrecipients should contact their pass-through entity. Federal agencies should contact Gilbert Tran, Office of Management and Budget, Office of Federal Financial Management, at (202) 395-3052.

SUPPLEMENTARY INFORMATION: This Notice announces the availability of the 2019 OMB 2 CFR part 200, subpart F—Audit Requirements, Appendix XI—Compliance Supplement (2019 Supplement).

Timothy F. Soltis,
Deputy Controller.

[FR Doc. 2019-13943 Filed 6-28-19; 8:45 am]

BILLING CODE 3110-01-P